SECURITIES AND EXCHANGE COMMISSION

Sunshine Act Meetings

TIME AND DATE: Notice is hereby given, pursuant to the provisions of the Government in the Sunshine Act, Public Law 94-409, that the Securities and Exchange Commission Asset Management Advisory Committee (“AMAC”) will hold a public meeting on Wednesday, May 27, 2020 at 9:00 a.m.

PLACE: The meeting will be conducted by remote means. Members of the public may watch the webcast of the meeting on the Commission's website at www.sec.gov.

STATUS: The meeting will begin at 9:00 a.m. and will be open to the public by webcast on the Commission's website at www.sec.gov.

MATTERS TO BE CONSIDERED: On May 5, 2020, the Commission issued notice of the meeting (Release No. 34-88807), indicating that the meeting is open to the public and inviting the public to submit written comments to AMAC. This Sunshine Act notice is being issued because a majority of the Commission may attend the meeting.

The meeting will include a discussion of matters relating to the AMAC's subcommittees and to COVID-19 and the asset management industry.

CONTACT PERSON FOR MORE INFORMATION: For further information, please contact Vanessa A. Countryman from the Office of the Secretary at (202) 551-5400.

Dated: May 19, 2020.
Vanessa A. Countryman,
Secretary.

[FR Doc. 2020-11143 Filed 5-20-20; 11:15 am]

BILLING CODE 8011-01-P